DEPARTMENT OF JUSTICE

Notice of Lodging of Proposed Consent Decree Under the Clean Water Act

On July 18, 2013, the Department of Justice lodged a proposed Consent Decree (“Decree”) with the United States District Court for the Middle District of Pennsylvania in the lawsuit entitled United States v. XTO Energy, Inc. (“Defendant”), Civil Action No. 4:13-cv-01954-MWB.

In this action the United States, on behalf of the Environmental Protection Agency (“EPA”), filed a complaint against Defendant seeking permanent injunctive relief and civil penalties under the Clean Water Act (“CWA”), 33 U.S.C. 1251-1387, resulting from unauthorized discharges of flowback fluid and produced fluid into waters of the United States from tanks and valves associated with Defendant's hydraulic fracturing operations at Defendant's well pad and storage facility located at 301 Marquardt Road, in Penn Township, Lycoming County, Pennsylvania. Produced fluid and flowback fluid contain contaminants such as barium, calcium, iron, magnesium, manganese, potassium, sodium, strontium, bromide, chloride, and total dissolved solids. The Decree requires Defendant to undertake compliance measures to prevent and contain future releases. These measures include installation of secondary containment, high level shut-down devices, and caps, flanges and plugs at Defendant's existing and new natural gas wells within EPA Region 3; implementation of standard operating procedures for tank loading and unloading; and an obligation to increase recycling of produced fluid and flowback fluid. In addition, the Decree requires the Defendant to pay within thirty (30) days the sum of $100,000 as a civil penalty, together with interest accruing from the date on which the Decree is lodged with the court.

The publication of this notice opens a period for public comment on the Decree. Comments should be addressed to the Acting Assistant Attorney General, Environment and Natural Resources Division and should refer to United States v. XTO Energy, Inc., D.J. Ref. 90-5-1-1-10439. All comments must be submitted no later than thirty (30) days after the publication date of this notice. Comments may be submitted either by email or by mail:

To submit comments: | Send them to:
By email | pubcomment-ees.enrd@usdoj.gov.
By mail | Assistant Attorney General U.S. DOJ-ENRD, P.O. Box 7611, Washington, DC 20044-7611.

During the public comment period, the Decree may be examined on the following Department of Justice Web site: http://www.usdoj.gov/enrd/Consent_Decrees.html. We will provide a paper copy of the Decree upon written request and payment of reproduction costs. Please mail your request and payment to: Consent Decree Library, U.S. DOJ-ENRD, P.O. Box 7611, Washington, DC 20044-7611.

Please enclose a check or money order in the amount of $10.00 (.25 cents per page reproduction cost) payable to the U.S. Treasury.

Maureen Katz,
Assistant Chief, Environmental Enforcement Section, Environment and Natural Resources Division.

[FR Doc. 2013-17719 Filed 7-23-13; 8:45 am]

BILLING CODE 4410-15-P